DEPARTMENT OF ENERGY

Federal Energy Regulatory Commission

[Docket No. RP96-129-013]

Trunkline Gas Company; Notice of Refund Report

August 4, 2000.

Take notice that on July 31, 2000, Trunkline Gas Company (Trunkline) tendered for filing its Refund Report pursuant to the Commission's order issued February 1, 2000.

Trunkline states that it made refunds on April 3, 2000 and June 30, 2000 pursuant to Article II, Section 2 of Stipulation and Agreement issued September 16, 1999.

Trunkline further states it is submitting herein Appendix A, which reflects the amounts refunded to each affected party on April 3, 2000 and June 30, 2000.

Trunkline further states that a copy of this filing is available for public inspection during regular business hours at Trunkline's office at 5444 Westheimer Rd., Houston, Texas 77056-5306. In addition, copies of this filing are being served on all affected customers and applicable state regulatory agencies.

Any person desiring to protest this filing should file a protest with the Federal Energy Regulatory Commission, 888 First Street, NE, Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may also be viewed on the web at http://www.ferc.fed.us/online/rims.htm (call 202-208-2222 for assistance).

David P. Boergers,
Secretary.

[FR Doc. 00-20200 Filed 8-9-00; 8:45 am]

BILLING CODE 6717-01-M